POSTAL SERVICE

39 CFR Part 232

Conduct on Postal Property; Penalties and Other Law

AGENCY: Postal Service.

ACTION: Final rule.

SUMMARY: The U.S. Postal Service is amending the Code of Federal Regulations to increase the maximum penalty for violations of the rules concerning conduct on Postal Service property. The authorized maximum penalty should allow the courts more flexibility in determining the appropriate means of promoting compliance with the regulation.

DATES: Effective Date: January 27, 2010.

FOR FURTHER INFORMATION CONTACT: Elizabeth P. Martin, General Counsel, Joint Legal Services Center, U.S. Postal Inspection Service/Office of Inspector General, (703) 248-2100.

SUPPLEMENTARY INFORMATION: The current rules governing conduct on Postal Service property establish the maximum penalty for a violation as a fine of not more than $50 or imprisonment of not more than 30 days, or both. As revised by this notice, the maximum penalty for a violation will be increased to a fine of not more than that allowed under title 18 of the United States Code or imprisonment of not more than 30 days, or both.

To promote compliance with the regulation and to maintain the deterrent effect, the Postal Service has determined it is appropriate to increase the maximum penalty allowed for a violation of this regulation. The authorized maximum penalty should allow the courts more flexibility in determining the appropriate means of promoting compliance with the regulation.

The current regulations have not been changed for over 30 years. The current maximum fine does not reflect either the seriousness of some of the infractions, nor the effect that inflation has had over the past 30 years. This current low monetary penalty provision gives the court little flexibility in arriving at a fair and just resolution to an infraction. The revisions to the maximum monetary penalty allow for this flexibility. Further, the revision to the maximum penalty more accurately reflects the range of conduct covered by this regulation.

List of Subjects in 39 CFR Part 232

Authority delegations (Government agencies), Crime, Federal buildings and facilities, Government property, Law enforcement officers, Postal Service, Security measures.

For the reasons stated in the preamble, the Postal Service amends 39 CFR Part 232 as set forth below:

PART 232—[AMENDED]

1. The authority citation for part 232 continues to read as follows:

Authority: 18 U.S.C. 13, 3061; 21 U.S.C. 802, 844; 39 U.S.C. 401, 403(b)(3), 404(a)(7), 1201(2).

2. In § 232.1, paragraph (p)(2) is revised to read as follows:

§ 232.1 Conduct on postal property.

* * * * *

(p) * * *

(2) Whoever shall be found guilty of violating the rules and regulations in this section while on property under the charge and control of the Postal Service is subject to fine of not more than that allowed under title 18 of the United States Code or imprisonment of not more than 30 days, or both. Nothing contained in these rules and regulations shall be construed to abrogate any other Federal laws or regulations or any State and local laws and regulations applicable to any area in which the property is situated.

* * * * *

Stanley F. Mires,
Chief Counsel, Legislative.

[FR Doc. 2010-1643 Filed 1-26-10; 8:45 am]

BILLING CODE 7710-12-P